INTERNATIONAL TRADE COMMISSION

[USITC SE-15-038]

Government in the Sunshine Act Meeting Notice

AGENCY HOLDING THE MEETING: United States International Trade Commission.

TIME AND DATE: November 13, 2015 at 11:00 a.m.

PLACE: Room 101, 500 E Street SW., Washington, DC 20436, Telephone: (202) 205-2000.

STATUS: Open to the public.

MATTERS TO BE CONSIDERED: 1. Agendas for future meetings: None.

2. Minutes.

3. Ratification List.

4. Vote in Inv. Nos. 701-TA-548 and 731-TA-1298 (Preliminary)(Welded Stainless Steel Pressure Pipe from India). The Commission is currently scheduled to complete and file its determinations on November 16, 2015; views of the Commission are currently scheduled to be completed and filed on November 23, 2015.

5. Outstanding action jackets: None.

In accordance with Commission policy, subject matter listed above, not disposed of at the scheduled meeting, may be carried over to the agenda of the following meeting.

By order of the Commission.
Issued: November 4, 2015.
William R. Bishop,
Supervisory Hearings and Information Officer.

[FR Doc. 2015-29142 Filed 11-10-15; 4:15 pm]

BILLING CODE 7020-02-P